ENVIRONMENTAL PROTECTION AGENCY

[EPA-HQ-OPP-2018-0563; FRL-9982-34]

MERP Systems, Inc.; Transfer of Data

AGENCY: Environmental Protection Agency (EPA).

ACTION: Notice.

SUMMARY: This notice announces that pesticide related information submitted to EPA's Office of Pesticide Programs (OPP) pursuant to the Federal Insecticide, Fungicide, and Rodenticide Act (FIFRA) and the Federal Food, Drug, and Cosmetic Act (FFDCA), including information that may have been claimed as Confidential Business Information (CBI) by the submitter, will be transferred to MERP Systems, Inc. in accordance with the CBI regulations. MERP Systems, Inc. has been awarded multiple contracts to perform work for OPP, and access to this information will enable MERP Systems, Inc. to fulfill the obligations of the contract.

DATES: MERP Systems, Inc. will be given access to this information on or before August 29, 2018.

FOR FURTHER INFORMATION CONTACT: William Northern, Information Technology and Resources Management Division (7502P), Office of Pesticide Programs, Environmental Protection Agency, 1200 Pennsylvania Ave. NW, Washington, DC 20460-0001; telephone number: (703) 305-6478 email address: northern.william@epa.gov.

SUPPLEMENTARY INFORMATION:

I. General Information

A. Does this action apply to me?

This action applies to the public in general. As such, the Agency has not attempted to describe all the specific entities that may be affected by this action.

B. How can I get copies of this document and other related information?

The docket for this action, identified by docket identification (ID) number EPA-HQ-OPP-2018-0563, is available at http://www.regulations.gov or at the Office of Pesticide Programs Regulatory Public Docket (OPP Docket) in the Environmental Protection Agency Docket Center (EPA/DC), West William Jefferson Clinton Bldg., Rm. 3334, 1301 Constitution Ave. NW, Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. Contractor Requirements

The Contractor shall perform activities in the PWS that are organized into four (4) main categories: Task Activity 1 is related to overall project management; Task Activity 2 is related to information about pesticide products, including the receipt of applications for regulatory action, the results of EPA registration decisions affecting individual products and pesticide uses and reports of incidents involving the use of pesticide products; Task Activity 3 is related to information about pesticide studies, position papers, analyses and the administrative records resulting from the decision processes themselves; and Task Activity 4 is related to updating OPP's PRISM Label Use Information System (LUIS) which is an automated pesticide information system that contains a summary of the legal uses of registered pesticide products.

The contractor shall:

• Capture data that supports regulatory applications, decisions, incident reports, and Personally Identifiable Information (PII), etc.;

• Provide processing, indexing support and shredding/destruction of studies and other technical documents of archival significance; and

• Make every effort to adopt to changing environments in technology, Office of Management and Budget (OMB), Homeland Security, Presidential Directives, and EPA Management Directives, of which, changes could be in the areas of technology, regulations, information systems. process adaptations. coordination with other agencies, coordination with other Agency contractors. Government furnished equipment and/or software, facilities and security requirements, shall remain within the tasks activities herein.

These contracts involve no subcontractors.

OPP has determined that the contracts described in this document involve work that is being conducted in connection with FIFRA, in that pesticide chemicals will be the subject of certain evaluations to be made under this contract. These evaluations may be used in subsequent regulatory decisions under FIFRA.

Some of this information may be entitled to confidential treatment. The information has been submitted to EPA under FIFRA sections 3, 4, 6, and 7 and under FFDCA sections 408 and 409.

In accordance with the requirements of 40 CFR 2.307(h)(3), the contracts with MERP Systems, Inc., prohibits use of the information for any purpose not specified in these contracts; prohibits disclosure of the information to a third party without prior written approval from the Agency; and requires that each official and employee of the contractor sign an agreement to protect the information from unauthorized release and to handle it in accordance with the FIFRA Information Security Manual. In addition, MERP Systems, Inc. is required to submit for EPA approval a security plan under which any CBI will be secured and protected against unauthorized release or compromise. No information will be provided to MERP Systems, Inc. until the requirements in this document have been fully satisfied. Records of information provided to MERP Systems, Inc. will be maintained by EPA Project Officers for these contracts. All information supplied to MERP Systems, Inc. by EPA for use in connection with these contracts will be returned to EPA when MERP Systems, Inc. has completed its work.

Authority: 7 U.S.C. 136 et seq.; 21 U.S.C. 301 et seq.

Dated: August 13, 2018.
Delores Barber,
Director, Information Technology and Resources Management Division, Office of Pesticide Programs.

[FR Doc. 2018-18405 Filed 8-23-18; 8:45 am]

BILLING CODE 6560-50-P